NATIONAL FOUNDATION OF THE ARTS AND THE HUMANITIES

Institute of Museum and Library Services

Special Meeting of the National Museum and Library Services Board

AGENCY: Institute of Museum and Library Services (IMLS), National Foundation of the Arts and the Humanities (NFAH).

ACTION: Notice of meeting.

SUMMARY: The National Museum and Library Services Board, which advises the Director of the Institute of Museum and Library Services in awarding national awards and medals, will meet by teleconference on February 6, 2025, to review nominations for the 2024 National Medal for Museum and Library Service.

DATES: The meeting will be held on Thursday, February 6, from 3:30 p.m. Eastern Time until adjourned.

ADDRESSES: The meeting will convene virtually.

FOR FURTHER INFORMATION CONTACT: Katherine Maas, Chief of Staff and Alternate Designated Federal Officer, Institute of Museum and Library Services, Suite 4000, 955 L'Enfant Plaza North SW, Washington, DC 20024; (202) 653-4798; kmaas@imls.gov.

SUPPLEMENTARY INFORMATION: The National Museum and Library Services Board is meeting pursuant to the National Museum and Library Service Act, 20 U.S.C., 9105a, and the Federal Advisory Committee Act (FACA) as amended, 5 U.S.C. App. to review nominations for the 2025 National Medal for Museum and Library Service.

The meeting will be closed to the public pursuant to subsections (c)(4), (c)(6) and (c)(9) of section 552b of Title 5, United States Code, as amended. The closed meeting will consider information that may disclose: Trade secrets and commercial or financial information obtained from a person and privileged or confidential; and information the premature disclosure of which would be likely to significantly frustrate implementation of a proposed agency action.

Dated: January 3, 2025.
Brianna Ingram,
Paralegal Specialist.

[FR Doc. 2025-00275 Filed 1-8-25; 8:45 am]

BILLING CODE P